DEPARTMENT OF HOMELAND SECURITY

[Docket Number DHS-2019-0044]

Agency Information Collection Activities: Generic Clearance for the Collection of Social Media Information on Immigration and Foreign Travel Forms

AGENCY: Department of Homeland Security (DHS).

ACTION: 60-Day notice and request for comments; new collection, 1600-NEW.

SUMMARY: The Department of Homeland Security (DHS) invites the general public and other Federal agencies to comment upon this proposed new collection of information. In accordance with the Paperwork Reduction Act of 1995, the information collection notice is published in the Federal Register to obtain comments regarding proposed modifications to certain DHS immigration and foreign travel forms. This collection of information is necessary to comply with Section 5 of the Executive Order (E.O.) 13780, “Protecting the Nation from Foreign Terrorist Entry into the United States” to establish screening and vetting standards and procedures to enable DHS to assess an alien's eligibility to travel to or be admitted to the United States or to receive an immigration-related benefit from DHS. This data collection also is used to validate an applicant's identity information and to determine whether such travel or grant of a benefit poses a law enforcement or national security risk to the United States.

DATES: Comments are encouraged and will be accepted until November 4, 2019. This process is conducted in accordance with 5 CFR 1320.1.

ADDRESSES: You may submit comments, identified by docket number Docket # DHS-2019-0044, at:

○ Federal eRulemaking Portal: http://www.regulations.gov. Please follow the instructions for submitting comments. The draft supporting statement for this new collection is posted in the docket for review.

Instructions: All submissions received must include the agency name and docket number Docket #DHS-2019-0044. All comments received will be posted without change to http://www.regulations.gov, including any personal information provided.

Docket: For access to the docket to read background documents or comments received, go to http://www.regulations.gov.

SUPPLEMENTARY INFORMATION:

Background

Executive Order (E.O.) 13780, “Protecting the Nation from Foreign Terrorist Entry into the United States” requires the implementation of uniform vetting standards and the proper collection of all information necessary for a rigorous evaluation of all grounds of inadmissibility or bases for the denial of immigration-related benefits. See 82 FR 13209 (Mar. 9, 2017). The E.O. requires the Department of Homeland Security (DHS) to collect standard data on immigration and foreign traveler forms and/or information collection systems. This data will be collected from certain populations on applications for entrance into the United States or immigration-related benefits and is necessary for identity verification, vetting and national security screening and inspection conducted by DHS.

This collection of information is necessary to comply with Section 5 of the E.O. to establish screening and vetting standards and procedures to enable DHS to assess an alien's eligibility to travel to or be admitted to the United States or to receive an immigration-related benefit from DHS. This data collection also is used to validate an applicant's identity information and to determine whether such travel or grant of a benefit poses a law enforcement or national security risk to the United States.

DHS will collect biographic information on immigration and foreign traveler information collection instruments and systems. DHS will update its forms and systems to collect information from individuals who seek admissibility or other benefits when that information is not already collected.

New Information To Be Collected

U.S. Government departments and agencies involved in screening and vetting, to include DHS, identified the collection of social media user identifications (also known as usernames, identifiers, or “handles”) and associated publicly available social media platforms used by the applicant during the past five years, as important for identity verification, immigration and national security vetting. For DHS, these data elements will be added to certain immigration benefit request or traveler forms where the information was not already collected.

For the purposes of this information collection, DHS defines publicly available social media information as any electronic social media information that has been published or broadcast for public consumption, is available on request to the public, is accessible online to the public, is available to the public by subscription or purchase, or is otherwise lawfully accessible to the public without establishing a direct relationship (e.g., “friend”, “follow”, “connect”).¹ Social media takes many different forms, including but not limited to web-based communities and hosted services, social networking sites, video and photo sharing sites, blogs, virtual worlds, social bookmarking and other emerging technologies.

¹ Publicly available social media does not require a user to purchase or otherwise pay for a subscription of use and does not require an invitation from a user to join or the establishment of a relationship (e.g., “friend,” “follow,” “connect”) to otherwise access information. Publicly available social media may require a user to create an account in order to access services and related content.

This collection of information is necessary to enable DHS to assess an alien's eligibility to travel to or be admitted to the United States or to receive an immigration-related benefit from DHS. DHS currently uses publicly available social media information to support its vetting and adjudication programs, and to supplement other information and tools that DHS trained personnel regularly use in the performance of their duties. This process includes a labor-intensive step to validate that the identified social media is correctly associated with the applicant. The collection of applicants' social media identifiers and associated platforms will assist DHS by reducing the time needed to validate the attribution of the publicly-available posted information to the applicant and prevent mis-associations. It will provide trained DHS adjudication personnel with more timely visibility of the publicly available information on the platforms provided by the applicant.

Social media may help distinguish individuals of concern from applicants whose information substantiates their eligibility for travel or an immigration benefit. Social media can provide positive, confirmatory information to verify identity and support a beneficiary's or traveler's application, petition, or claims. It can also be used to identify potential deception, fraud, or previously unidentified national security or law enforcement concerns, such as when criminals and terrorists have provided otherwise unavailable information via social media, that identified their true intentions, including support for terrorist organizations.

DHS will collect social media user identifications (also known as usernames, identifiers, or “handles”) and associated social media platforms used by the applicant during the past five years on certain immigration and foreign traveler collection instruments and systems identified in this supporting statement, designated from investigative and/or intelligence based criteria.² DHS is seeking this information, covering the previous five year period, to assist with identity verification, and consistency with other U.S. Government data collections for immigrant and non-immigrant visas. DHS will not collect social media passwords. DHS personnel will review information on social media platforms in a manner consistent with the privacy settings the applicant has chosen to adopt for those platforms. Only that information which the account holder has allowed to be shared publicly will be viewable by DHS.

² For the purposes of this supporting statement and the associated DHS forms, “user identifications” are defined as usernames, handles, screen names, or other identifiers associated with an individual's online presence and social media profile. Passwords are not considered user identifications and will not be collected.

DHS is committed to upholding the highest standards of conduct throughout the Department. Existing DHS policy prohibits the consideration of race or ethnicity in our investigation, screening, and enforcement activities in all but the most exceptional instances. This policy is reaffirmed in manuals, policies, directives, and guidelines.

CBP is committed to the fair, impartial and respectful treatment of all members of the trade and traveling public, and has memorialized its commitment to nondiscrimination in existing policies, including the February 2014 CBP Policy on Nondiscrimination in Law Enforcement Activities and all other Administered Programs. This policy prohibits the consideration of race or ethnicity in law enforcement, investigation, and screening activities, in all but the most exceptional circumstances.

CBP's Standards of Conduct further highlights CBP's prohibition on bias-motivated conduct and explicitly requires that “Employees will not act or fail to act on an official matter in a manner which improperly takes into consideration an individual's race, color, age, sexual orientation, religion, sex, national origin, or disability . . .”

The USCIS Policy Manual, Chapter 1, provides guidance principles for achieving its customer service policy goals.³ The policy provides that USCIS will:

³ https://www.uscis.gov/policymanual/HTML/PolicyManual-Volume1-PartA-Chapter1.html.

• Approach each case objectively and adjudicate each case in a thorough and fair manner.

• Carefully administer every aspect of its immigration mission so that its customers can hold in high regard the privileges and advantages of U.S. immigration.

• Demonstrate respect for its customers.

• Be responsive to customers' inquiries and provide information and services that demonstrate courtesy and cultural awareness.

• Through its service, be an example of how to treat customers with respect, courtesy, and dignity.

• Administer the immigration laws, regulations, and policies in a consistent manner.

Consistent with the requirements of the Privacy Act, DHS does not maintain records “describing how any [citizen of the United States or alien lawfully admitted for permanent residence] exercises rights guaranteed by the First Amendment, unless expressly authorized by statute or by the individual about whom the record is maintained or unless pertinent to and within the scope of an authorized law enforcement activity.” 5 U.S.C. 552a(e)(7)

Although such collection of social media user identifications is `mandatory' to complete the DHS forms, it is not required to obtain or retain a benefit.⁴ However, for CBP's ESTA, and EVUS forms, the applicant will be unable to submit the online application if they do not provide a response to the mandatory social media field. Nonetheless, the applicant may proceed if they answer none or other. 8 CFR 103.2(a)(1) provides that forms must be completed in accordance with form instructions. CBP will continue to adjudicate a form where social media information is not answered, but failure to provide the requested data may either delay or make it impossible for CBP to determine an individual's eligibility for the requested benefit.

⁴ Pursuant to 5 CFR 1320.8(b)(3)(iv), agencies are required to “inform [ ] and provide reasonable notice to the potential persons to whom the collection of information is addressed of—Whether responses to the collection of information are voluntary, required to obtain or retain a benefit [ ], or mandatory [ ]” pursuant to the authorities cited herein.

For USCIS, the proposed information collection for social media information is not “mandatory” in the sense that an application will be denied or rejected based solely on the lack of a response. USCIS will continue to adjudicate a form where social media information is not answered, but failure to provide the requested data may either delay or make it impossible for USCIS to determine an individual's eligibility for the requested benefit.

Applicants for CBP and USCIS benefits must certify on the respective forms that the information submitted is true and correct to the best of the applicant's knowledge and belief.

The following social media questions will appear on electronic forms:

Please enter information associated with your online presence over the past five years:

• Provider/Platform (dropdown bar will provide multiple choices, including “Other”, and “None” for those who do not use the platforms listed):

• Social Media Identifier(s) over the past five years (free text field for applicant to enter information):

The forms will allow the applicant to provide as many platforms and identifiers as necessary.

Paper Forms

Please enter information associated with your online presence over the past five years:

Provider/Platform: (a list will be provided including “Other”, and “None” for those who do not use the platforms listed)__________

Social Media Identifier(s):

A sufficient amount of space on the paper form will be provided to allow the applicant appropriate room to provide all necessary platforms/identifiers.

The request for social media platforms, providers, and websites will focus on those fora that the individual uses to collaborate, share information and interact with others.⁵

⁵ Non-social media websites, such as those for applicants to carry out financial transactions, medical appointment and records, homeowner's associations, travel, and tourism are not germane to this information collection.

The initial list of social media platforms featured on DHS forms will be as follows:

ASK FM

DOUBAN

FACEBOOK

FLICKR

INSTAGRAM

LINKEDIN

MYSPACE

PINTEREST

QZONE (QQ)

REDDIT

SINA WEIBO

TENCENT WEIBO

TUMBLER

TWITTER

TWOO

VINE

VKONTAKTE (VK)

YOUKU

YOUTUBE

The platforms selected represent those which are among the most popular on a global basis. The platforms listed may be updated by the Department by adding or removing platforms in order to evolve the U.S. Government's uniform vetting with emerging communication technologies and common usage; therefore, the list will change over time. These changes will be made on a periodic basis under this generic clearance. Platform changes will be submitted to OMB for approval prior to inclusion. OMB will review to make sure that such suggested new platforms meet the description of public-facing social media handles contained above.

Programs Affected, OMB Control Numbers and Legal Authorities for the Collections

DHS plans to collect the data elements for three programs/forms administered by U.S. Customs and Border Protection (CBP). The three CBP programs/forms, and the applicable statutory and regulatory authorities to collect the additional information are as follows:

• OMB No. 1651-0111—Electronic System for Travel Authorization (ESTA): Collection of data through this form is authorized by Section 711 of The Secure Travel and Counterterrorism Partnership Act of 2007 (part of the Implementing Recommendations of the 9/11 Commission Act of 2007, also known as the “9/11 Act,” Pub. L. 110-53). The authorities for the maintenance of this system are found in: Title IV of the Homeland Security Act of 2002, 6 U.S.C. 201 et seq., the Immigration and Nationality Act, as amended, including 8 U.S.C. 1187(a)(11) and (h)(3); 8 CFR part 217; the Travel Promotion Act of 2009, Public Law 111-145, 22 U.S.C. 2131.

• OMB No. 1651-0111—Form I-94W Nonimmigrant Visa Waiver Arrival/Departure Record: Collection of data through this form is authorized by 8 U.S.C. 1103, 1187 and 8 CFR 235.1, 264, and 1235.1.

• OMB No. 1651-0139—Electronic Visa Update System (EVUS): Collection of data through this form is authorized by INA section 104(a) (8 U.S.C. 1104(a)). The authorities for the maintenance of this system are found in: Title IV of the Homeland Security Act of 2002, 6. U.S.C. 201 et seq., the Immigration and National Act, as amended, including sections 103 (8 U.S.C. 1103), 214 (8 U.S.C. 1184), 215 (8 U.S.C. 1185), and 221 (8 U.S.C. 1201); 8 CFR part 2; the Travel Promotion Act of 2009, Public Law 111-145, 22 U.S.C. 2131; and 8 CFR parts 212, 214, 215, and 273.

CBP has the following statutory and regulatory authorities, as an agency of the U.S. Government, to collect social media information from applicants for travel benefits:

• CBP is responsible for preventing the entry of terrorists and instruments of terrorism into the United States, securing the borders, and enforcing the immigration laws.⁶ To exercise its authority with respect to both inbound and outbound border crossings of U.S. citizens and aliens alike, CBP gathers information about individuals who may seek entry into the United States. CBP's general law enforcement authorities empower it to gather information, including information found via social media, which is relevant to its enforcement missions.⁷ For example, under the Immigration and Nationality Act (INA) (Pub. L. 89-236), CBP Officers, Border Patrol Agents, and other immigration officers have authority to, among other things, “take and consider evidence concerning the privilege of any person to enter, reenter, pass through, or reside in the United States; or concerning any matter which is material or relevant to the enforcement of the [INA] and the administration of the immigration and naturalization functions of the Department.” ⁸

⁶ See Homeland Security Act 402, 6 U.S.C. 202, and 6 U.S.C. 211.

⁷ See, e.g., 8 U.S.C. 1357(b).

⁸ 8 CFR 287.5(a)(2); see also id. § 287.2 (“Whenever a special agent in charge, port director, or chief patrol agent has reason to believe that there has been a violation punishable under any criminal provision of the immigration and nationality laws administered or enforced by the Department, he or she shall immediately initiate an investigation to determine all the pertinent facts and circumstances and shall take such further action as he or she deems necessary.”). CBP Officers have the responsibility to elicit sufficient information to determine whether an applicant is legally admissible or inadmissible. If an applicant refuses to answer sufficiently for the Officer to find the individual admissible, the individual will be inadmissible.

• Under this broad authority to take and consider “evidence,” CBP may use information obtained from social media where relevant to its immigration enforcement mission under Title 8 of the U.S. Code. Further, should the facts and circumstances of a particular investigation so require, CBP may also use social media in connection with its extensive customs enforcement authorities under title 19 of the U.S. Code.⁹

⁹ See, e.g., 19 U.S.C. 1436, 1592, & 1595. As noted above with respect to the INA, CBP has authority to enforce these and other customs statutes; therefore, it may utilize social media when conducting authorized operations or investigations related to its customs enforcement mission.

DHS plans to collect the new data elements for nine programs administered by U.S. Citizenship and Immigration Services (USCIS). The nine USCIS programs, and the applicable statutory and regulatory authorities to collect the additional information area as follows:

USCIS has the following statutory and regulatory authorities to collect additional biographic data information on the following forms:

• OMB No. 1615-0052—Form N-400, Application for Naturalization: Collection of data through this form is authorized by INA section 337 [8 U.S.C. 1448]; 8 U.S.C. 1421; 8 CFR 316.4 and 8 CFR 316.10.

• OMB No. 1615-0013—Form I-131, Application for Travel Document: Collection of data through this form is authorized by INA sections 103, 208, 212, 223 and 244; 8 CFR 103.2(a) and (e); 8 CFR 208.6; 8 CFR 244.16; Section 303 of Public Law 107-173.

• OMB No. 1615-0017—Form I-192, Application for Advance Permission to Enter as a Nonimmigrant: Collection of data through this form is authorized by INA 212 [8 U.S.C. 1182].

• OMB No. 1615-0023—Form I-485, Application to Register Permanent Residence or Adjust status: Collection of data through this form is authorized by INA section 245, 8 U.S.C. 1255, Public Law 106-429, and section 902 of Public Law 105-277.

• OMB No. 1615-0067—Form I-589, Application for Asylum and for Withholding of Removal: Collection of data through this form is authorized by INA sections 101(a)(42), 208(a) and (b), and 241(b)(3) and 8 CFR 208.6 and 1208.6.

• OMB No. 1615-0068—Form I-590, Registration for Classification as Refugee: This information collection is authorized by INA section 207 (8 U.S.C. 1157) for a person who seeks refugee classification and resettlement in the United States. A refugee is defined in 8 U.S.C. 1101(a)(42) and Section 101(a)(42) of the Act.

• OMB No. 1615-0037—Form I-730, Refugee/Asylee Relative Petition: This information collection is authorized by section 207(c)(2), and 208(c) of the INA (8 U.S.C. 1157 and 1158) for an asylee or refugee to request accompanying or following-to-join benefits for his or her spouse and unmarried minor child(ren).

• OMB No. 1615-0038 -Form I-751, Petition to Remove Conditions on Residence: Collection of data through this form is authorized by INA section 216, 8 U.S.C. 1186(a); 8 CFR part 216.

• OMB No. 1615-0045—Form I-829, Petition by Entrepreneur to Remove Conditions on Permanent Resident Status: Collection of data through this form is authorized by INA section 203(b)(5), 8 U.S.C. 1153, and INA section 216(a), 8 U.S.C. 1186(b)].

USCIS, as a component of DHS, has the following statutory and regulatory authorities, to collect social media information from applicants for immigration benefits:

• 8 C.FR 204.5(m)(12) and 214.2(r)(16) provide that, in the context of adjudicating an immigrant or nonimmigrant religious worker petition, USCIS may verify the supporting evidence submitted by the petitioner “through any means determined appropriate by USCIS,” including by “review of any other records that the USCIS considers pertinent to the integrity of the organization” with which the religious worker is affiliated.

• 8 CFR 103.2(a)(1) requires that every benefit request be executed and filed in accordance with the form instructions and clarifies that “such instructions are incorporated into the regulations requiring its submission.” ¹⁰

¹⁰ USCIS will modify the Applicant's Certification section on the applicable USCIS forms and petitions to include the following text: “I also authorize USCIS to use publicly available social media information for verification purposes and to determine my eligibility for the immigration benefit that I seek. I further understand that USCIS is not requiring me to provide passwords; to log into a private account; or to take any action that would disclose non-publicly available social media information.”

DHS has additional statutory and regulatory authorities to secure the homeland and prevent terrorism, in addition to those cited above for CBP and USCIS. These include:

• The Homeland Security Act, 2002, Public Law 107-296;

• The Intelligence Reform and Terrorism Prevention Act (IRTPA) of 2004, Public Law 108-458;

• Implementing Recommendations of the 9/11 Commission Act of 2007 (“The 9/11 Act”), Public Law 110-53; and

• The Immigration and Nationality Act, as amended.

Applicant information is collected to maintain a record of persons applying for specific immigration and other travel benefits, and to determine whether these applicants are eligible to receive the benefits for which they are applying. The information provided through DHS forms is also analyzed—along with other information that the Secretary of Homeland Security determines is necessary, including information about other persons included on the DHS forms—against various security and law enforcement databases to identify those applicants who may pose a security risk to the United States. To obtain approval for a collection that meets the conditions of this generic clearance, a standardized form will be submitted to OMB along with supporting documentation (e.g., a copy of the updated application form). OMB will grant approval only if the agency demonstrates the collection of information complies with the specific circumstances laid out in this supporting statement.

Confidentiality

No assurance of confidentiality is provided. All data submitted under this collection will be handled in accordance with applicable U.S. laws and DHS policies regarding personally identifiable information.

• Public Law 107-347, “E-Government Act of 2002,” as amended, Section 208 [44 U.S.C. 3501 note]

• Title 5, United States Code (U.S.C.), Section 552a, “Records maintained on individuals” [The Privacy Act of 1974, as amended].

• Title 6, U.S.C., Section 142, “Privacy officer.”

• Title 44, U.S.C., Chapter 35, Subchapter II, “Information Security” [The Federal Information Security Modernization Act of 2014 (FISMA)].

• DHS Directive 047-01, “Privacy Policy and Compliance” (July 25, 2011).

• DHS Instruction 047-01-001, “Privacy Policy and Compliance” (July 25, 2011).

• Privacy Policy Guidance Memorandum 2008-01/Privacy Policy Directive 140-06, “The Fair Information Practice Principles: Framework for Privacy Policy at the Department of Homeland Security.” (December 29, 2008).

• Privacy Policy Guidance Memorandum 2017-01, DHS Privacy Policy Regarding Collection, Use, Retention, and Dissemination of Personally Identifiable Information. (April 25, 2017).

• Refugees and asylees are protected by the confidentiality provisions of 8 CFR 208.6; 8 U.S.C. 1103.

• Aliens in TPS status have the confidentiality protections described in 8 CFR 244.16; 8 U.S.C. 1254a(c)(6). There are no confidentiality assurances for other aliens applying for the benefit.

• The system of record notices associated with this information collection are:

○ DHS/USCIS/ICE/CBP-001 Alien File, Index, and National File Tracking System of Records, September 18, 2017, 82 FR 43556 (all USCIS forms).

○ DHS/USCIS-007 Benefits Information System, October 19, 2016, 81 FR 72069 (Forms N-400, I-131, I-192, I-485, I-590, I-730, I-751, I-829).

○ DHS/USCIS-010 Asylum Information and Pre-Screening System of Records November 30, 2015, 80 FR 74781 (Form I-589, Form I-730).

○ DHS/CBP-006 Automated Targeting System, May 22, 2012, 77 FR 30297 (Form I-192).

○ DHS/USCIS/ICE/CBP-001 Alien File, Index, and National File Tracking System of Records, November 21, 2013, 78 FR 69864; DHS/USCIS-010 Asylum Information and Pre-Screening System of Records, November 30, 2015, 80 FR 74781.

○ DHS/CBP-022 Electronic Visa Update System (EVUS) System of Records, September 1, 2016, 81 FR 60371 (EVUS Form); Final Rule for Privacy Exemptions, November 25, 2016, 81 FR 85105.

○ DHS/CBP-009 Electronic System for Travel Authorization (ESTA), September 2, 2016, 81 FR 60713 (ESTA Form); Final Rule for Privacy Act Exemptions, August 31, 2009 74 FR 45069.

○ DHS/CBP-016 Nonimmigrant Information System March 13, 2015, 80 FR 13398 (Form I-94W).

Applicable USCIS Privacy Impact Assessments (PIA):

○ Refugee Case Processing PIA: https://www.dhs.gov/publication/dhsuscispia-068-refugee-case-processing-and-security-vetting (July 21, 2017).

○ FDNS-DS: https://www.hsdl.org/?view&did=793268, May 18, 2016.

○ FDNS Directorate: https://www.dhs.gov/sites/default/files/publications/privacy-pia-uscis-fdns-november2016_0.pdf (December 16, 2014).

○ Asylum Division: https://www.dhs.gov/sites/default/files/publications/privacy-pia-uscis-asylum-july2017_0.pdf (July 21, 2017).

Applicable CBP Privacy Impact Assessments (PIA):

○ DHS/CBP/PIA-007 Electronic System for Travel Authorization (ESTA): https://www.dhs.gov/publication/electronic-system-travel-authorization.

○ DHS/CBP/PIA-033 Electronic Visa Update System (EVUS): https://www.dhs.gov/publication/dhscbppia-033-electronic-visa-update-system-evus.

○ DHS//CBP/PIA-006 Automated Targeting System (ATS): https://www.dhs.gov/publication/automated-targeting-system-ats-update.

○ DHS/CBP/PIA-016 I-94 website Application: https://www.dhs.gov/publication/us-customs-and-border-protection-form-i-94-automation.

This is a new generic clearance. This request will be submitted to the Office of Management and Budget, Office of Information and Regulatory Affairs for review and approval as required by the Paperwork Reduction Act. This new collection is necessary to meet the intent of E.O. 13780 (Section 5) to establish screening and vetting standards to assess an alien's eligibility to travel to, be admitted to, or receive an immigration-related benefit from DHS. This information will be used to validate an applicant's identity and determine whether entry to the U.S. or an immigration benefit for an individual poses a law enforcement or national security risk to the United States.

DHS is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security DHS.

Title: Generic Clearance for the Collection of Social Media Information on Immigration and Foreign Travel Forms.

OMB Number: 1601-NEW.

Frequency: On Occasion.

Affected Public: Individuals.

Number of Respondents: 33.380,888.

Estimated Time Per Respondent: .083.

Total Burden Hours: 12,374,078.

Melissa Bruce,
Executive Director, Business Management Office.

[FR Doc. 2019-19021 Filed 9-3-19; 8:45 am]

BILLING CODE 9110-9B-P